DEPARTMENT OF HOMELAND SECURITY

Coast Guard

[USCG-2016-0499]

National Maritime Security Advisory Committee; Teleconference

AGENCY: Coast Guard, DHS.

ACTION: Notice of teleconference meeting.

SUMMARY: The National Maritime Security Advisory Committee will meet on July 5, 2016, via teleconference to discuss various issues relating to national maritime security. This meeting will be open to the public.

DATES: The Committee will meet by teleconference on Tuesday, July 5, 2016 from 3 p.m. to 5 p.m. Eastern Daylight Time. This meeting may close early if all business is finished. To join the teleconference, contact the individual listed in the FOR FURTHER INFORMATION CONTACT section to obtain the needed information no later than 3 p.m. on July 1, 2016. The number of teleconference lines is limited and will be available on a first-come, first-served basis. Written comments for distribution to Committee members before the meeting must be submitted no later than June 27, 2016.

ADDRESSES: Written comments may be submitted to the docket for this notice, USCG-2016-0499, using the Federal eRulemaking Portal at http://www.regulations.gov. To facilitate public participation, we are inviting public comment on the issues to be considered by the Committee as listed in the “Agenda” section below. If you encounter technical difficulties, contact the individual in the FOR FURTHER INFORMATION CONTACT section of this document for alternate instructions.

Instructions: All submissions must include the words “Department of Homeland Security” and the docket number for this action. Comments received will be posted without alteration at http://regulations.gov, including any personal information provided. You may review a Privacy Act notice regarding the Federal Docket Management system in the March 24, 2005, issue of the Federal Register (70 FR 15086).

Docket Search: For access to the docket to read documents or comments related to this notice, go to http://www.regulations.gov, type USCG-2016-0499 in the Search box, press Enter, and then click on the item you wish to view.

FOR FURTHER INFORMATION CONTACT: Mr. Ryan Owens, Alternate Designated Federal Official of the National Maritime Security Advisory Committee, 2703 Martin Luther King Jr. Avenue SE., Washington, DC 20593, Stop 7581, Washington, DC 20593-7581; telephone 202-372-1108 or email ryan.f.owens@uscg.mil.

SUPPLEMENTARY INFORMATION: Notice of this meeting via teleconference is in compliance with the Federal Advisory Committee Act (Title 5, United States Code, Appendix).

The National Maritime Security Advisory Committee operates under the authority of 46 U.S.C. 70112. The National Maritime Security Advisory Committee provides advice, consults with, and makes recommendations to the Secretary of Homeland Security, via the Commandant of the Coast Guard, on matters relating to national maritime security.

Agenda of Meeting

The agenda for the July 5, 2016 teleconference is as follows:

(1) Coast Guard Cyber Security Tasking. At their last public meeting, the Committee was asked to provide recommendations concerning a Cyber Security Information Sharing and Analysis Center. A copy of the tasking can be found at http://homeport.uscg.mil/nmsac. The National Maritime Security Advisory Committee will meet via teleconference to receive the report of the working group and provide recommendations. The public will be provided an opportunity to comment prior to any voting on this issue.

(2) Transportation Worker Identification Credential; Next Generation Specifications. At the last public meeting The Committee was tasked with providing recommendations on what the next generation of Transportation Worker Credentials and readers should incorporate. A copy of the tasking can be found at http://homeport.uscg.mil/nmsac. The National Maritime Security Advisory Committee will meet via teleconference to receive the report of the working group and provide recommendations. The public will be provided an opportunity to comment prior to any voting on this issue.

(3) Extremely Hazardous Cargo Strategy. The Committee will receive a tasking to work with the Chemical Transportation Advisory Committee in developing an implementation strategy for the Strategy.

During the July 5, 2016 meeting via teleconference, a public comment will be held from approximately 4:45 p.m. to 5 p.m. Speakers are requested to limit their comments to three minutes. Please note that this public comment period may start before 4:45 p.m. if all other agenda items have been covered and may end before 5 p.m. if all those wishing to comment have done so.

Dated: June 15, 2016.
K.P. McAvoy,
Captain, U.S. Coast Guard, Acting Director of Inspections and Compliance.

[FR Doc. 2016-14512 Filed 6-17-16; 8:45 am]

BILLING CODE 9110-04-P